GENERAL SERVICES ADMINISTRATION

[OMB Control No. 3090-0280]

General Services Administration Acquisition Regulation; Submission for OMB Review; Tax Adjustment Clause 552.270-30

AGENCY: Office of the Chief Acquisition Officer, General Services Administration (GSA).

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding tax adjustments under leasehold acquisitions. A request for public comments was published at 73 FR 77698, December 19, 2008. No comments were received.

This collection requires contractors to submit information to the Government to substantiate an increase or decrease in real estate taxes under a leasehold acquisition so that the Government can make tax adjustments as necessary to the leasehold acquisition. Information collected under this authority is necessary to assess proper tax adjustments against each leasehold acquisition.

Public comments are particularly invited on: Whether this collection of information is necessary and whether it will have practical utility; whether our estimate of the public burden of this collection of information is accurate, and based on valid assumptions and methodology; ways to enhance the quality, utility, and clarity of the information to be collected.

DATES: Submit comments on or before: July 30, 2009.

FOR FURTHER INFORMATION CONTACT: Edward Chambers, Procurement Analyst, at telephone (202) 501-3221, or via e-mail to Edward.chambers@gsa.gov.

ADDRESSES: Submit comments regarding this burden estimate or any other aspect of this collection of information, including suggestions for reducing this burden to GSA Desk Officer, OMB, Room 10236, NEOB, Washington, DC 20503, and a copy to the Regulatory Secretariat (VPR), General Services Administration, 1800 F Street, NW., Room 4041, Washington, DC 20405. Please cite OMB Control No. 3090-0280, Tax Adjustment Clause 552.270-30, in all correspondence.

SUPPLEMENTARY INFORMATION:

A. Purpose

The General Services Administration (GSA) has various mission responsibilities related to the acquisition and provision supply, service, and leasehold acquisitions. These mission responsibilities generate requirements that are realized through the solicitation and award of various types of contracts. Individual solicitations and resulting contracts may impose unique information collection and reporting requirements on contractors, not required by regulation, but necessary to evaluate particular program accomplishments, measure success in meeting program objectives, or adjust acquisition requirements. Leasehold acquisitions provide for real estate tax adjustments due to changes in real estate taxes on land and buildings occupied by the Government. In a leasehold acquisition, the lessor shall provide the following information regarding real estate taxes: (1) Any notice which may affect the valuation of land and buildings covered by this lease for real estate tax purposes; (2) Any notice of a tax credit or tax refund related to land and buildings covered by this lease; and (3) Each tax bill related to land and building covered by this lease. The lessor is also required to provide the contracting officer a proper invoice including evidence of payment to receive the tax adjustment. Depending on the leasehold acquisition, the tax adjustment can result in either the lessor receiving a credit or the Government receiving a credit.

B. Annual Reporting Burden

Respondents: 7,041.

Responses per Respondent: 1.

Total Responses: 7,041.

Hours per Response: 6.

Total Burden Hours: 42,246.

Obtaining Copies of Proposals: Requesters may obtain a copy of the information collection documents from the General Services Administration, Regulatory Secretariat (VPR), 1800 F Street, NW., Room 4041, Washington, DC 20405, telephone (202) 501-4755. Please cite OMB Control No. 3090-0280, Tax Adjustment Clause 552.270-30, in all correspondence.

Dated: June 23, 2009.
Al Matera,
Director, Contract Policy Division.

[FR Doc. E9-15415 Filed 6-29-09; 8:45 am]

BILLING CODE 6820-61-P